DEPARTMENT OF ENERGY

Federal Energy Regulatory Commission

[EL02-91-000]

Williams Energy Marketing & Trading Company, Complainant, v. Southern Company Service, Inc., Respondent Notice of Filing

May 28, 2002.

Take notice that on May 24, 2002, Williams Energy Marketing & Trading Company (Williams) filed a complaint and request for fast track processing under section 206 of the Federal Power Act, 16 USC 824e and section 206 of the Commission's rules of practice and procedure, 18 CFR 385.206, against Southern Company Services, Inc. Williams charges that Southern's unilateral annulment of a previously queued, accepted and confirmed transmission service redirect request is unjust and unreasonable. The Complaint also charges that Southern's interpretation of the effect of the exercise of rollover rights pursuant to Section 2.2 of the Southern Open Access Tariff is unjust and unreasonable. Williams, lastly, charges that the methodology used by Southern to perform generation interconnection studies is flawed and that the application of and reliance on such studies is untimely and unreasonable.

Any person desiring to be heard or to protest this filing should file a motion to intervene or protest with the Federal Energy Regulatory Commission, 888 First Street, NE, Washington, DC 20426, in accordance with Rule 211 and Rule 214 of the Commission's rules of practice and procedure (18 CFR 385.211 and § 385.214). All such motions or protests must be filed on or before June 17, 2002. Protests will be considered by the Commission in determining the appropriate action to be taken, but will not serve to make protestants parties to the proceeding. Any person wishing to become a party must file a motion to intervene. Answers to the complaint shall be due on or before June 17, 2002. Copies of this filing are on file with the Commission and are available for public inspection. This filing may also be viewed on the web at http://www.ferc.gov using the “RIMS” link, select “Docket # and follow the instructions (call 202-208-2222 for assistance). Comments, protests and interventions may be filed electronically via the Internet in lieu of paper. See, 18 CFR § 385.2001(a)(1)(iii) and the instructions on the Commission's web site under the “e-Filing” link.

Linwood A. Watson, Jr.,
Deputy Secretary.

[FR Doc. 02-13792 Filed 5-31-02; 8:45 am]

BILLING CODE 6717-01-P